Title 3—

The President

Proclamation 8435 of October 7, 2009

Leif Erikson Day, 2009

By the President of the United States of America

A Proclamation

On this day in 1825, the ship Restauration landed in New York City after sailing for 3 months from Stavanger, Norway. The 52 passengers aboard represented the first organized emigration of Norwegians to America. These brave individuals set to the seas, following in the grand footsteps of the famous Scandinavian explorer Leif Erikson. Over a millennium ago, Leif Erikson—son of Iceland and grandson of Norway—arrived in North America and founded the settlement Vinland, located in modern-day Canada. Today, we celebrate his historic voyage and remember those who journeyed to America from far-away lands.

Our Nation’s founding history is marked by millions of individuals who faced great hardship and difficulty as they pursued a brighter future abroad. As explorers, they did not know what they would find, but they were determined not to turn back, in order to learn what lay beyond the setting sun. This same spirit lived within Leif Erikson, and it has inspired countless others who venture from their homes in search of opportunity, uncertain of the possibilities and challenges that await them.

Today, our Nation continues to welcome those descendents of Leif Erikson to our shores. Nordic Americans have contributed immeasurably to the success of America. Their cultural accomplishments have enriched the diversity of our country. And their pioneering spirit continues to embody our Nation’s unbounded enthusiasm for discovery and learning.

To honor Leif Erikson and celebrate our Nordic-American heritage, the Congress, by joint resolution (Public Law 88-566) approved on September 2, 1964, has authorized the President to proclaim October 9 of each year as “Leif Erikson Day.”

NOW, THEREFORE, I, BARACK OBAMA, President of the United States of America, do hereby proclaim October 9, 2009, as Leif Erikson Day, and I call upon all Americans to observe this day with appropriate ceremonies, activities, and programs to honor our country’s rich Nordic-American heritage.

IN WITNESS WHEREOF, I have hereunto set my hand this seventh day of October, in the year of our Lord two thousand nine, and of the Independence of the United States of America the two hundred and thirty-fourth.

[FR Doc. E9-24953

Filed 10-14-09; 8:45 am]

Billing code 3195-W9-P